FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202)-523-5793 or tradeanalysis@fmc.gov.

Agreement No.: 012339-001.

Title: Sealand/APL West Coast of Central America Slot Charter Agreement.

Parties: APL Co. Pte Ltd; and American President Lines, Ltd. (collectively “APL”); Maersk Line A/S dba Sealand.

Filing Party: Wayne R. Rohde, Esq.; Cozen O'Conner; 1627 I Street NW., Suite 1100; Washington, DC 20006-4007.

Synopsis: The amendment would add ports on the Pacific Coast of Guatemala, El Salvador, and Nicaragua to the agreement.

Agreement No.: 012429.

Title: CMA CGM/APL Panama—USEC Space Charter Agreement.

Parties:. APL Co. Pte Ltd; and American President Lines, Ltd. (collectively “APL”); CMA CGM, S.A.

Filing Party: Draughn B. Arbona, Esq; CMA CGM (America) LLC; 5701 Lake Wright Drive; Norfolk, VA 23502.

Synopsis: The agreement authorizes APL to charter space to CMA CGM in the trade between Panama and the U.S. East Coast.

Agreement No.: 012430.

Title: CMA CGM/APL Colombia/Panama-USEC Space Charter Agreement.

Parties: APL Co. Pte Ltd; and American President Lines, Ltd. (collectively “APL”)

Filing Party: Draughn B. Arbona, Esq; CMA CGM (America) LLC; 5701 Lake Wright Drive; Norfolk, VA 23502.

Synopsis: The agreement authorizes APL to charter space to CMA CGM in the trade between Colombia and Panama on the one hand, and the U.S. East Coast on the other hand.

Agreement No.: 0123431.

Title: HSDG/Zim Asia US East Coast Slot Charter Agreement.

Parties: Hamburg Sud Amerikanische Dampfschifffahrts-Gesellschaft KG and Zim Integrated Shipping Services, Ltd.

Filing Party: Mark E. Newcomb; ZIM American Integrated Shipping Services Co., LLC; 5801 Lake Wright Dr.; Norfolk, VA 23508.

Synopsis: The Agreement would authorize Zim to charter space to Hamburg Sud in the trade between China and Korea on one hand, and Panama, Jamaica and the U.S. East Coast on the other hand. The parties have requested Expedited Review.

Agreement No.: 012432.

Title: APL/ANL Asia—USWC Space Charter Agreement.

Parties: APL Co. Pte Ltd; and American President Lines, Ltd. (collectively “APL”); and ANL Singapore Pte Ltd.

Filing Party: Draughn B. Arbona, Esq; CMA CGM (America) LLC; 5701 Lake Wright Drive; Norfolk, VA 23502.

Synopsis: The Agreement authorizes APL to charter space to ANL in the trade between Asia and the U.S. West Coast.

Agreement No.: 012433.

Title: HLAG/MOL Slot Charter Agreement.

Parties: Hapag-Lloyd AG and Mitsui O.S.K. Lines, Ltd.

Filing Party: Wayne Rohde, Esq.; Cozen O'Connor; 1200 Nineteenth Street NW; Washington, DC 20036.

Synopsis: The Agreement authorizes Hapag-Lloyd to charter space to MOL in the trade between Puerto Rico, the Dominican Republic, and Panama.

By Order of the Federal Maritime Commission.
Dated: July 29, 2016.
Rachel E. Dickon,
Assistant Secretary.

[FR Doc. 2016-18388 Filed 8-2-16; 8:45 am]

BILLING CODE 6731-AA-P